NUCLEAR REGULATORY COMMISSION

[FEMA-2012-0026, NRC-2015-0133]

Preparation and Evaluation of Radiological Emergency Response Plans and Preparedness

AGENCY: Nuclear Regulatory Commission.

ACTION: Draft NUREG; extension of comment period.

SUMMARY: On May 29, 2015, the U.S. Nuclear Regulatory Commission (NRC) issued and requested comments on draft NUREG-0654/FEMA-REP-1, Revision 2, “Criteria for Preparation and Evaluation of Radiological Emergency Response Plans and Preparedness in Support of Nuclear Power Plants.” The public comment period was originally scheduled to close on August 27, 2015. The NRC has decided to extend the public comment period to allow more time for members of the public to develop and submit their comments.

DATES: The due date for comments on the document published on May 29, 2015 (80 FR 30739) is extended. Comments should be filed no later than October 13, 2015. Comments received after this date will be considered, if it is practical to do so, but the NRC is able to ensure consideration only for comments received on or before this date.

ADDRESSES: In order to avoid the receipt and review of duplicate submissions, please submit your comments and any supporting material by only one of the following means:

• Federal Rulemaking Web site: Go to http://www.regulations.gov and search for Docket ID FEMA-2012-0026. For technical questions, contact the individual listed in the FOR FURTHER INFORMATION CONTACT section of this document.

• Mail comments to: Regulatory Affairs Division, Office of Chief Counsel, Federal Emergency Management Agency, 500 C Street SW., Washington, DC 20472-3100.

For additional direction on obtaining information and submitting comments, see “Obtaining Information and Submitting Comments” in the SUPPLEMENTARY INFORMATION section of this document.

FOR FURTHER INFORMATION CONTACT: Don Tailleart, Office of Nuclear Security and Incident Response, U.S. Nuclear Regulatory Commission, Washington, DC 20555-0001; telephone: 301-287-9257; email: Don.Tailleart@nrc.gov or William Eberst, Technological Hazards Division, National Preparedness Directorate, Federal Emergency Management Agency, Washington, DC 20472-3100; telephone: 202-341-4917; email: William.Eberst@fema.dhs.gov.

SUPPLEMENTARY INFORMATION:

I. Obtaining Information and Submitting Comments

A. Obtaining Information

Please refer to Docket ID FEMA-2012-0026 when contacting the NRC about the availability of information for this action. You may obtain publicly available information related to this action by any of the following methods:

• Federal Rulemaking Web site: Go to http://www.regulations.gov and search for Docket ID FEMA-2012-0026.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The draft guidance document is available in ADAMS under Accession No. ML14246A519.

• NRC's PDR: You may examine and purchase copies of public documents at the NRC's PDR, Room O1-F21, One White Flint North, 11555 Rockville Pike, Rockville, Maryland 20852.

Submitted comments may also be inspected at the Federal Emergency Management Agency (FEMA), Office of Chief Counsel, 500 C Street SW., Washington, DC 20472-3100.

B. Submitting Comments

Please include Docket ID FEMA-2012-0026 in the subject line of your comment submission, in order to ensure that FEMA is able to make your comment submission available to the public in this docket.

All submissions received must include the agency name (FEMA) and docket ID. Regardless of the method used for submitting comments or material, FEMA will post all submissions, without change, to www.regulations.gov and will include any personal information that you provide. Therefore, submitting this information makes it public. You may wish to read the Privacy Act notice, which can be viewed by clicking on the “Privacy Notice” link on the homepage of www.regulations.gov.

II. Discussion

On May 29, 2015, the NRC requested comments on draft NUREG-0654/FEMA-REP-1, Revision 2, “Criteria for Preparation and Evaluation of Radiological Emergency Response Plans and Preparedness in Support of Nuclear Power Plants.” Comments on the draft document were also requested by FEMA on the same date (80 FR 30697). The public comment period was originally scheduled to close on August 27, 2015. On June 23, 2015, the Nuclear Energy Institute submitted a request to the NRC and FEMA to extend the public comment period an additional 90 days (ADAMS Accession No. ML15205A187). The NRC, in conjunction with FEMA, has decided to extend the public comment period on this document until October 13, 2015, to allow more time for members of the public to submit their comments. This represents a 45-day extension, rather than 90 days as requested, in consideration of the extensive public outreach and stakeholder engagement throughout the development of the draft document, which provided opportunities for reviewing and providing feedback on preliminary versions of the document. A 45-day extension should provide sufficient additional time for comments to be provided.

Dated at Rockville, Maryland, this 13th day of August, 2015.
For the U.S. Nuclear Regulatory Commission.
Brian E. Holian,
Director, Office of Nuclear Security and Incident Response.

[FR Doc. 2015-20637 Filed 8-20-15; 8:45 am]

BILLING CODE 7590-01-P